DEPARTMENT OF THE INTERIOR

Bureau of Land Management

[MT-924-1430-EU; MTM 87193]

Order Providing for Opening of Public Land; Montana

AGENCY: Bureau of Land Management, Interior.

ACTION: Opening order.

SUMMARY: This notice terminates the temporary segregative effect as to 320 acres of public land originally included as part of the proposed Two Crow Exchange.

EFFECTIVE DATE: November 7, 2001.

FOR FURTHER INFORMATION CONTACT: Sandra Ward, BLM Montana State Office, P. O. Box 36800, Billings, Montana 59101, 406-896-5052.

SUPPLEMENTARY INFORMATION: Pursuant to the regulations contained in 43 CFR 2201.1-2(c)(2), the segregation imposed by notation to the records of the lands described below is hereby terminated and the land is made available, subject to other withdrawals and segregations of record, under the public land and mineral laws of the United States:

Principal Meridian, Montana

T. 22 N., R. 21 E.,

Sec. 4, NE¼SW¼ and S½SW¼;

Sec. 5, S½SE¼;

Sec. 9, N½NW¼ and SE¼SE¼.

The areas described aggregate 320 acres in Fergus County.

2. At 9 a.m. on November 7, 2001, the lands shall be opened to the operation of the public land laws generally, subject to valid existing rights, the provisions of existing withdrawals, other segregations of record, and the requirements of applicable law. All valid applications received at or prior to 9 a.m. on November 7, 2001, shall be considered as simultaneously filed at that time. Those received thereafter shall be considered in the order of filing.

3. At 9 a.m. on November 7, 2001, the lands will be opened to location and entry under the United States mining laws and to the operation of the mineral leasing laws, subject to valid existing rights, the provision of existing withdrawals, other segregations of record, and the requirements of applicable law. Appropriation of any of the lands described in this order under the general mining laws prior to the date and time of restoration is unauthorized. Any such attempted appropriation, including attempting adverse possession under 30 U.S.C. 38 (1994), shall vest no rights against the United States. Acts required to establish a location and to initiate a right of possession are governed by state law where not in conflict with Federal law. The Bureau of Land Management will not intervene in disputes between rival locators over possessory rights since Congress has provided for such determinations in local courts.

Dated: October 2, 2001.
Thomas P. Lonnie,
Deputy State Director, Division of Resources.

[FR Doc. 01-27919 Filed 11-6-01; 8:45 am]

BILLING CODE 4310-$$-P